FEDERAL COMMUNICATIONS COMMISSION

Sunshine Act Meetings; Deletion of Items From Sunshine Act Meeting

September 22, 2017.

The following items have been deleted from the list of items scheduled for consideration at the Tuesday, September 26, 2017, Open Meeting and previously listed in the Commission's Notice of September 19, 2017.

2 | MEDIA | TITLE: Cable Television Technical and Operational Standards (MB Docket No. 12-217) SUMMARY: The Commission will consider a Report and Order that modernizes its cable television technical rules to reflect the cable industry's use of digital transmission systems.
3 | MEDIA | TITLE: Revitalization of the AM Radio Service (MB Docket No. 13-249) SUMMARY: The Commission will consider a Third Report and Order that will relax or eliminate certain rules pertaining to AM broadcasters employing and maintaining directional antenna arrays.

Federal Communications Commission.
Marlene H. Dortch,
Secretary.

[FR Doc. 2017-21241 Filed 9-29-17; 11:15 am]

BILLING CODE 6712-01-P